DEPARTMENT OF AGRICULTURE

Submission for OMB Review; Comment Request

January 22, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Livestock & Meat Market News.

OMB Control Number: 0581-0154.

Summary of Collection: The Agricultural Marketing Act of 1946 (7 U.S.C. 1621), section 203(q), directs and authorizes the collection and dissemination of marketing information including adequate outlook information, on a market area basis, for the purpose of anticipating and meeting consumer requirements aiding in the maintenance of farm income and to bring about a balance between production and utilization. Livestock and Meat Market News provides a timely exchange of accurate and unbiased information on current marketing conditions affecting trade in livestock, meats, grain, and wool. Administered by the U.S. Department of Agriculture's Agricultural Marketing Service (AMS), this nationwide market news program is conducted in cooperation with approximately 30 States departments of agriculture. AMS will collect information using market reports.

Need and Use of the Information: The information provided by respondents initiates market news reporting, which must be timely accurate, unbiased, and continuous if it is to be meaningful to the industry. AMS will collect information on price, supply, demand, trends, movement, and other information of livestock, meat carcasses, meat and pork cuts, and meat byproducts. Several agencies, agricultural universities and colleges use the information collected to keep appraised of the current market conditions, movement of livestock and meat in the United States and to determine available supplies and current pricing.

Description of Respondents: Business or other for-profit; Individuals or households;

Number of Respondents: 1,109.

Frequency of Responses: Reporting: Weekly; Other (Daily).

Total Burden Hours: 11,640.

Charlene Parker,
Departmental Information Collection Clearance Officer.

[FR Doc. E8-1380 Filed 1-25-08; 8:45 am]

BILLING CODE 3410-02-P